DEPARTMENT OF COMMERCE

National Oceanic and Atmospheric Administration

[RTID 0648-XA470]

Caribbean Fishery Management Council; Public Meeting

AGENCY: National Marine Fisheries Service (NMFS), National Oceanic and Atmospheric Administration (NOAA), Commerce.

ACTION: Notice of a public meeting.

SUMMARY: The Caribbean Fishery Management Council's (Council) Outreach and Education Advisory Panel (OEAP) will hold a public virtual meeting to address the items contained in the tentative agenda included in the SUPPLEMENTARY INFORMATION.

DATES: The OEAP public virtual meeting will be held on September 30, 2020, from 10 a.m. to 3 p.m., Eastern Day Time.

ADDRESSES: You may join the OEAP public virtual meeting (via GoToMeeting) from a computer, tablet or smartphone by entering the following address: https://global.gotomeeting.com/join/431849525.

You can also dial in using your phone. United States: +1 (646) 749-3112, Access Code: 431-849-525.

Get the app now and be ready when the first meeting starts: https://global.gotomeeting.com/install/431849525.

In case GoToMeeting fails: Via Google Meets, in case GTM fails: https://meet.google.com/qjf-rhak-ayy.

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The following items included in the tentative agenda will be discussed:

Wednesday, September 30, 2020, 10 a.m.-3 p.m.

10 a.m.—11 a.m.

—Call to Order

—Adoption of Agenda

—Needs for Outreach and Education on Marine Reserves

11 a.m.-11:10 a.m.

—Break

11:10 a.m.-12 p.m.

—Possible Outreach and Education Products

12 p.m.-1 p.m.

—Lunch

1 p.m.-2 p.m.

—Outreach & Education Products on Critical Habitats

2 p.m.-2:10 p.m.

—Break

2:10 p.m.-3 p.m.

—How can OEAP members contribute to dissemination of O & E products?

—Other Business

The order of business may be adjusted as necessary to accommodate the completion of agenda items. The meeting will begin on September 30, 2020, at 10 a.m. EST, and will end on September 30, 2020, at 3 p.m. EST. Other than the start time, interested parties should be aware that discussions may start earlier or later than indicated, at the discretion of the Chair. In addition, the meeting may be completed prior to the date established in this notice.

Special Accommodations

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: September 9, 2020.
Tracey L. Thompson,
Acting Deputy Director, Office of Sustainable Fisheries, National Marine Fisheries Service.

[FR Doc. 2020-20207 Filed 9-11-20; 8:45 am]

BILLING CODE 3510-22-P